NATIONAL CREDIT UNION ADMINISTRATION

Notice of Meeting

TIME AND PLACE: 10 a.m., Thursday, June 30, 2005.

PLACE: Board Room, 7th Floor, Room 7047, 1775 Duke Street, Alexandria, VA 22314-3428.

STATUS: Open.

MATTERS TO BE CONSIDERED: 1. Notice and Request for Comment—Federal Credit Union Bylaws.

2. Notice and Request for Comment as Required by the Economic Growth and Regulatory Paperwork Reduction Act of 1996 (EGRPRA).

TIME AND DATE: 9:30 a.m., Thursday, June 30, 2005.

PLACE: Board Room, 7th Floor, Room 7047, 1775 Duke Street, Alexandria, VA 22314-3428.

STATUS: Closed.

MATTERS TO BE CONSIDERED: 1. Delegations of Authority: Section 206 of the Federal Credit Union Act. Closed pursuant to Exemptions (7) and (10).

2. One (1) Insurance Appeal. Closed pursuant to Exemptions (6) and (9)(B).

FOR FURTHER INFORMATION CONTACT: Mary Rupp, Secretary of the Board, Telephone: 703-518-6304.

Mary Rupp,
Secretary of the Board.

[FR Doc. 05-12768 Filed 6-23-05; 3:02 pm]

BILLING CODE 7535-01-M